DEPARTMENT OF COMMERCE

National Oceanic and Atmospheric Administration

50 CFR Part 660

[I.D. 022101A]

Western Pacific Fishery Management Council; Public Meetings and Hearing

AGENCY: National Marine Fisheries Service (NMFS), National Oceanic and Atmospheric Administration (NOAA), Commerce.

ACTION: Notice of public meetings/public hearing revision.

SUMMARY: The Western Pacific Fishery Management Council (Council) has changed the time, address, and agenda for the March 13, 2001, 109th meeting in Honolulu, HI.

DATES: The meeting time has been changed to 12 noon to 6 p.m.

ADDRESSES: The meeting will now be held at the Ala Mona Hotel, Hibiscus Room No 1., 410 Atkinson Drive, Honolulu, HI 96813; telephone: 808-944-2974.

FOR FURTHER INFORMATION CONTACT: Kitty M. Simonds, Executive Director; telephone: 808-522-8220.

SUPPLEMENTARY INFORMATION: This revised notification modifies the original notice published on March 2, 2001. The new agenda item will be the Endangered Species Act Biological Opinion (BO) on the effects of the Hawaii-based pelagic longline fishery on threatened and endangered sea turtles. The Council expects to receive public comments on the BO and its recommended measures.

Special Accommodations

The meeting is physically accessible to people with disabilities. Requests for sign language interpretation or other auxiliary aids should be directed to Kitty M. Simonds, 808-522-8220 (voice) or 808-522-8226 (fax), at least 5 days prior to the meeting date. All other previously published information remains unchanged.

Authority: 16 U.S.C. 1801 et seq.

Dated: March 1, 2001.
Richard W, Surdi,
Acting Director, Office of Sustainable Fisheries, National Marine Fisheries Service.

[FR Doc. 01-5436 Filed 3-5-01; 8:45 am]

BILLING CODE 3510-22-S